DEPARTMENT OF JUSTICE

[AAG/A Order No. 202-2000]

Privacy Act of 1974; System of Records

Pursuant to the provisions of the Privacy Act of 1974 (5 U.S.C. 552a), the Immigration and Naturalization Service (INS), Department of Justice, proposes to establish and publish a new system of records for which no public notice consistent with the provisions of 5 U.S.C. 552a(e)(4) have been published. This system of records is entitled:

The FD-258 Fingerprint Tracking System, JUSTICE/INS-024.

In accordance with 5 U.S.C. 552a(e)(4) and (11), the public is given a 30-day period in which to comment on the routine uses; the Office of Management and Budget (OMB), which has oversight responsibility under the Act, requires a 40-day period in which to conclude its review of the system. Therefore, please submit any comments by August 30, 2000. The public, OMB and the Congress are invited to submit any comments to Mary Cahill, Management Analyst, Management and Planning Staff, Justice Management Division, Department of Justice, Washington, DC 20530 (Room 1400, National Place Building).

In accordance with 5 U.S.C. 552a(r), the Department has provided a report to OMB and the Congress.

Dated: July 20, 2000.
Stephen R. Colgate,
Assistant Attorney General for Administration.

JUSTICE/INS-024

SYSTEM NAME:

FD-258 Fingerprint Tracking System.

SYSTEM LOCATION:

Immigration and Naturalization Service (INS) Headquarters, Regional Service Centers, District Offices and sub-offices as detailed in Justice/INS-999, last published in the Federal Register on April 13, 1999 (64 FR 18052). In addition, this system can be accessed from the three INS Regional offices and the Application Support Centers.

CATEGORIES OF INDIVIDUALS COVERED BY THE SYSTEM:

Individuals who have filed application or petitions for benefits under the Immigration and Nationality Act, as amended and are required to submit fingerprints in order for a criminal background check to be conducted by the Federal Bureau of Investigation (FBI), and who have submitted fingerprints to or have had their fingerprints taken by INS.

CATEGORIES OF RECORDS IN THE SYSTEM:

Information that identifies individuals named above, e.g., name, date of birth, and alien registration number. Records in the system also include such information as date fingerprints were sent to the FBI for processing, the date a response was received from the FBI by INS, electronic rap sheet, and a unique control number. The response from the FBI that is included in the system of records includes such information as whether the individual has an arrest record, the charges on which the individual was arrested, whether the individual was convicted, and what the sentence or fine was. The unique seven digit control number is generated by the system and is used in the adjudication process to document that an applicant has a valid FBI response.

AUTHORITY FOR MAINTENANCE OF THE SYSTEM:

8 U.S.C. 1103, 1154(b), 1158(d), 1159, 1229b, 1254a, 1255, and 1446.

PURPOSE:

This system enables INS to determine the status of pending fingerprint submissions to the FBI and the results of the FBI check; and to account for and control the receipt and processing of fingerprints submitted to the FBI for a criminal background check.,

ROUTINE USES OF RECORDS MAINTAINED IN THE SYSTEM, INCLUDING CATEGORIES OF USERS AND THE PURPOSE OF SUCH USES:

A. To any Federal agency, where appropriate, to enable such agency to make determinations regarding the submission to and response received from the FBI pertaining to an immigration benefit applicant's fingerprints in accordance with that agency's statutory responsibilities. A Federal Agency may request this information from the INS to assist in an investigation.

B. In a proceeding before a court or adjudicative body before which INS or the Department of Justice (DOJ) is authorized to appear when any of the following is a party to litigation or has an interest in litigation and such records are determined by INS or DOJ to be arguably relevant to the litigation: (1) The DOJ, or any DOJ component or subdivision thereof; (2) any DOJ employee in his or her official capacity; (3) any DOJ employee in his or her individual capacity when the DOJ has agreed to represent the employee or has authorized a private attorney to represent him or her; and (4) the United States, where INS or the DOJ determines that the litigation is likely to affect it or any of its subdivisions.

C. To an attorney or representative (as defined in 8 CFR 1.1(j)) who is acting on behalf of an individual covered by this system of records in connection with any proceeding before INS or the Executive Office for Immigration Review.

D. To the news media and the public pursuant to 28 CFR 50.2 unless it is determined that release of the specific information in the context of a particular case would constitute an unwarranted invasion of personal privacy.

E. To a Member of Congress, or staff acting upon the Member's behalf, when the Member or staff requests the information on behalf of and at the request of the individual who is the subject of the record.

F. To General Services Administration and National Archives and Records Administration in records management inspections conducted under the authority of 44 U.S.C. 2904 and 2906.

POLICIES AND PRACTICES FOR STORING RETRIEVING, ACCESSING, RETAINING AND DISPOSING OF RECORDS IN THE SYSTEM:

STORAGE:

Information is stored on magnetic disks and tape.

RETRIEVABILITY:

Records may be retrieved by the name or alien registration number.

SAFEGUARDS:

Most INS offices are located in buildings under security guard, and access to premises is by official identification. Offices are locked during non-duty hours. Access to this system is obtained through remote terminals which require the use of restricted passwords and a user ID.

RETENTION AND DISPOSAL:

Records are archived and stored in the database for 10 years after adjudication of a benefits-seeking application and then deleted. The information contained on tapes is downloaded into the tracking system. The tapes are erased every three months and used to transmit and/or receive data from unrelated cases.

SYSTEM MANAGER(S) AND ADDRESS:

Associate Commissioner, Field Operations, Immigration Services Division, Immigration and Naturalization Service, 801 I Street NW, Washington, DC 20536.

NOTIFICATION PROCEDURE:

Inquiries should be addressed to the system manager.

RECORD ACCESS PROCEDURE:

Requests for access to a record from this system shall be in writing. If a request for access is made by mail the envelope and letter shall be clearly marked “Privacy Act Request.” The requester shall include a description of the general subject matter and, if known, the related file number. To identify a record relating to an individual, the requester should provide his or her full name, date and place of birth, verification of identity (in accordance with 8 CFR 103.2(b)), and any other identifying information which may be of assistance in locating the record. The requester shall also provide a return address for transmitting the records to be released.

CONTESTING RECORDS PROCEDURE:

Direct all requests to contest or amend information to the FOIA/PA Officer at any INS office. State clearly and concisely the information being contested, the reason for contesting it, and the proposed amendment thereof. Clearly mark the envelope “Privacy Act Amendment Request.” The record must be identified in the same manner as described for making a request for access.

RECORD SOURCE CATEGORIES:

Information contained in this system of records is obtained from the individuals covered by the system and from the FBI.

SYSTEMS EXEMPTED FROM CERTAIN PROVISIONS OF THE ACT:

None.

[FR Doc. 00-19203 Filed 7-28-00; 8:45 am]

BILLING CODE 4410-CJ-M